DEPARTMENT OF LABOR

Employment and Training Administration

[TA-W-41,651]

Tyco Electronics Corporation, Carlisle, PA; Notice of Termination of Investigation

Pursuant to Section 221 of the Trade Act of 1974, an investigation was initiated on June 17, 2002, in response to a petition filed on behalf of workers at Tyco Electronics, Corporation, Carlisle, Pennsylvania.

An active certification covering the petitioning group of workers remains in effect (TA-W-39,972). Consequently, further investigation in this case would serve no purpose, and the investigation has been terminated.

Signed in Washington, DC this 28th day of August 2002.
Richard Church,
Certifying Officer, Division of Trade Adjustment Assistance.

[FR Doc. 02-22968 Filed 9-9-02; 8:45 am]

BILLING CODE 4510-30-P